FEDERAL COMMUNICATIONS COMMISSION

47 CFR Parts 2 and 87

[WT Docket No. 00-77; RM Nos. 9376, 9462; FCC 00-160]

Advanced Digital Communications in the 117.975-137 MHz Band and Implementation of Flight Information Services in the 136-137 MHz Band

AGENCY: Federal Communications Commission.

ACTION: Proposed rule.

SUMMARY: In this document the Commission seeks comment on proposals regarding the use of the 136-137 MHz frequency band by the Aviation Services and certain modifications to parts 2 and 87 of the Commission's rules in response to two Petitions for Rulemaking filed by the Federal Aviation Administration and the Small Aircraft Manufacturers Association. In response to the Petitions and comments received, the Commission has released a Notice of Proposed Rulemaking (NPRM) in which the Commission proposes to: modify the footnote allocation of the Commission's rules to permit the FAA to use twenty channels in the 136-136.475 MHz band on a shared basis with non-Federal Government users for Air Traffic Control purposes, including Flight Information Services; revise certain technical rules in part 87 for the 117.975-137 MHz band to accommodate digital communications systems; and modify those rules pertaining to special purpose enroute services in the Gulf of Mexico.

DATES: Comments are due August 2, 2000. Reply comments are due August 2, 2000.

ADDRESSES: Federal Communications Commission, Office of the Secretary, 445 Twelfth Street, SW., TW-325, Washington, DC 20554. A copy of each filing should be sent to International Transcription Services, Inc. (ITS), 1231 20th Street, NW., Washington, DC 20036, (202) 857-3800, and Roberto Mussenden, Federal Communications Commission, Wireless Telecommunications Bureau, Public Safety and Private Wireless Division, Policy and Rules Branch, 445 Twelfth Street, SW., Room 3-A424, Washington, DC 20554.

FOR FURTHER INFORMATION CONTACT: Roberto Mussenden (rmussend@fcc.gov) or Ghassan Khalek (gkhalek@fcc.gov) at the Public Safety and Private Wireless Division, Policy and Rules Branch, (202) 418-0680.

SUPPLEMENTARY INFORMATION: This is a summary of the Commission's Notice of Proposed Rulemaking (NPRM) in WT Docket No. 00-77, FCC No. 00-160, released on May 15, 2000, as amended by Errata released on June 5, 2000. The full text of the NPRM is available for inspection and copying during normal business hours in the Public Safety and Private Wireless Division of the Wireless Telecommunications Bureau, Federal Communications Commission, 445 Twelfth Street, SW., Room 4-C207, Washington, DC 20554. The complete text of this NPRM may also be purchased from the Commission's duplicating contractor, International Transcription Services, 1231 20th Street, NW., Washington, DC 20036, 202-857-3800. Alternative formats (computer diskette, large print, audiocassette and Braille) are available to persons with disabilities by contacting Martha Contee at (202) 418-0260, TTY (202) 418-2555, or at mcontee@fcc.gov.

Currently, the 136-137 MHz band is allocated to the non-Federal Government aeronautical mobile (R) service on a primary basis. This one megahertz of spectrum is used by the civil aviation community, in particular ARINC, for AOC communications, and pursuant to footnote US244, by the FAA for general aviation ATC purposes. SAMA, in its Petition, requests the FCC to set aside four channels in the 136-137 MHz band for FIS to support general aviation. The FAA, in its Revised Petition, supports this request but also seeks a reallocation of approximately half of the band (136-136.475 MHz) to accommodate a new, digital communications system. While generally supporting both requests, it appears that the aviation community challenges the amount of spectrum needed and the manner in which it is allocated. The aviation community counsels caution when evaluating the petitions and stresses the need to balance future Federal Government services against the existing and planned improvements in non-Federal Government data communications services. All parties also request that 47 CFR part 87 be amended to permit digital communications for general aviation.

The Commission proposes to amend 47 CFR 2.106, footnote US244 to extend the FAA's access from fifteen to twenty channels within the 136-136.475 MHz band on a shared basis with non-Federal Government users. Specifically, the Commission proposes to add channels 136.100 MHz, 136.200 MHz, 136.275 MHz, 136.375 MHz, and 136.475 MHz to the list of FAA's shared channels. As requested by SAMA and supported by the FAA and industry, the Commission further proposes to accommodate FIS in the 136-137 MHz band. SAMA contends that locating the FIS within in the 136-137 MHz band is most appropriate. It notes that frequencies in the 136-137 MHz band are not currently being used because very few general aviation aircraft have voice radios that can tune to this band. NATA, NBAA, and ARINC/ATA all support authorization of FIS within the 136-137 MHz band. According to SAMA, most general aviation aircraft have 720-channel transceivers that tune up to 136 MHz; only the newest radios are 760-channel transceivers that also tune to the forty channels in the 136-137 MHz band. SAMA maintains that aircraft desiring to receive FIS broadcasts could purchase an FIS receiver that tunes to these frequencies only. Finally, SAMA avers that avionics manufacturers have already introduced low-cost radio receivers for FIS broadcasts for the general aviation market in anticipation of the FAA's initiation of this service. Consequently, the Commission proposes to add the FIS designation to footnote US244; however, it tentatively concludes that specifying four channels for FIS in US244 is unnecessary and could curtail flexibility.

To foster improved spectrum efficiencies, the Commission also proposes to amend various service and technical rules pertaining to the aviation services, 47 CFR part 87. The specific rule provisions proposed for amendment are: (1) 47 CFR 87.131 (Power and emissions); (2) 47 CFR 87.133 (Frequency stability); (3) 47 CFR 87.137 (Types of mission); (4) 47 CFR 87.139 (Emission limitations); (5) 47 CFR 87.173 (Frequencies) [General List]; (6) 47 CFR 87.187 (Frequencies) [Aircraft Stations]; and (7) 47 CFR 87.263 (Frequencies) [Aeronautical Enroute and Aeronautical Fixed Stations]. The Commission believes that these changes would serve to promote the transition from analog voice communications to digital voice and data transmissions.

Initial Regulatory Flexibility Analysis

As required by the Regulatory Flexibility Act (“RFA”), the Commission has prepared this present Initial Regulatory Flexibility Analysis (“IRFA”) of the possible significant economic impact on small entities by the policies and rules proposed in this NPRM Written public comments are requested on this IRFA. Comments must be identified as responses to the IRFA and must be filed by the deadlines for comments on this NPRM provided. The Commission will send a copy of the NPRM, including this IRFA, to the Chief Counsel for Advocacy of the Small Business Administration (“SBA”). See 5 U.S.C. 603(a).

I. Need for and Objectives of the Proposed Rules

Increased spectrum congestion within the 117.975-136 MHz band, due to increasing air traffic control communications requirements, which cause frequency assignments in this band to grow about four percent annually, compels the transition to digital communications technology. Further pressuring our aviation communications spectrum capacity is the explosive growth in data communications within the civil aviation communications spectrum band. This, combined with the FAA's role in administering the civil aviation communications spectrum, along with the public safety issues inherent with aviation communications, provides justification for our proposals in this NPRM. The objective is to develop aviation communications spectrum policies for the civil aviation community while providing the FAA with the latitude it needs to meet its statutory requirements. Our proposals are aimed at being as least intrusive on the private sector as feasible, while achieving our public interest objectives.

II. Legal Basis

The proposed action is authorized by sections 4(i), 303(r), and 332(a)(2) of the Communications Act of 1934, as amended, 47 U.S.C. 154(i), 303(r) and 332(a)(2).

III. Description and Estimate of the Number of Small Entities to Which the Proposed Rules Will Apply

Under the RFA, small entities may include small organizations, small businesses, and small governmental jurisdictions, or entities. 5 U.S.C. 601(6). The RFA directs agencies to provide a description of and, where feasible, an estimate of the number of small entities that may be affected by the proposed rules, if adopted. The RFA defines the term “small entity” as having the same meaning as the terms “small business,” “small organization,” and “small governmental jurisdiction.” 5 U.S.C. 601. In addition, the term “small business” has the same meaning as the term “small business concern” under the Small Business Act. A small business concern is one that: (1) Is independently owned and operated; (2) is not dominant in its field of operation; and (3) satisfies any additional criteria established by the SBA. Pursuant to 5 U.S.C. 601(3), the statutory definition of a small business applies “unless an agency, after consultation with the Office of Advocacy of the [SBA], and after opportunity for public comment, establishes one or more definitions of such term which are appropriate to the activities of the agency and publishes such definition(s) in the Federal Register.”

The Commission has not adopted a definition of small business specific to the Air-Ground Radiotelephone Service, which is defined in § 22.99 of the Commission's rules. 47 CFR 22.99. Accordingly, we will use the SBA's definition applicable to radiotelephone companies, i.e., an entity employing no more than 1,500 persons. There are approximately 100 licensees in the Air-Ground Radiotelephone Service, and we estimate that almost all of them qualify as “small businesses” or “small entities” under the SBA definition.

IV. Description of Projected Reporting, Recordkeeping, and Other Compliance Requirements

Current licensees are subject to minimal reporting, recordkeeping, and compliance requirements, e.g., retaining a copy of their license, filing for renewal of their license after a period of years. Equipment manufacturers are required to certify that their products comply with the performance standards established by the Commission. No new reporting, recordkeeping, or other compliance requirements would be imposed on applicants or licensees as a result of the actions proposed in this rulemaking proceeding.

V. Steps Taken To Minimize Significant Economic Impact on Small Entities, and Significant Alternatives Considered

The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design, standards; and (4) an exemption from coverage of the rule, or any part thereof, for small entities. The first two and the fourth alternatives are not relevant at this stage of the proceeding, whereby the Commission would permit additional use of existing Aviation Radio Service frequencies and the establishment of a new service. The third alternative is reflected in the NPRM in that the Commission has not specified the design standards for any potential radio apparatus but has limited its proposal to technical, performance standards for the use of the frequencies at issue. We seek comment on the impact on small entities of the proposals in the NPRM.

Federal Rules that May Duplicate, Overlap, or Conflict with the Proposed Rules: None.

VI. Paperwork Reduction Analysis

This NPRM contains either a new or modified information collection. The Commission, as part of its continuing effort to reduce paperwork burdens, invites the general public to comment on the information collection contained in this NPRM as required by the Paperwork Reduction Act of 1995, Public Law No. 104-13. Public and agency comments are due 60 days from date of publication of this NPRM in the Federal Register. Comments should address: (a) Whether the new or modified collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. These comments should be submitted to Judy Boley, Federal Communications Commission, 445 12th Street, SW., Washington, D.C. 20554, or via the Internet to <jboley@fcc.gov>. Furthermore, a copy of any such comments should be submitted to Virginia Huth, OMB Desk Officer, 725 17th Street, NW., Room 10236 NEOB, Washington, DC 20503, or via the Internet to <vhuth@omb.eop.gov>.

List of Subjects in 47 CFR Parts 2 and 87

Communications equipment, Radio, Air Transportation.

Federal Communications Commission.
Magalie Roman Salas,
Secretary.

[FR Doc. 00-16679 Filed 6-30-00; 8:45 am]

BILLING CODE 6712-01-U